DEPARTMENT OF ENERGY

Federal Energy Regulatory Commission

[Docket No. IC02-600-001, FERC-600]

Commission Information Collection Activities, Proposed Collection; Comment Request; Submitted for OMB Review 2002

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of July 1, 2002 (67 FR 44186-87) and has made this notation in its submission to OMB.

DATES: Comments on the collection of information are due by November 18, 2002.

ADDRESSES: Address comments on the collection of information to the Office of Management and Budget, Office of Information and Regulatory Affairs, Attention: Federal Energy Regulatory Commission Desk Officer, 725 17th Street, NW, Washington, DC 20503. The Desk Officer may be reached by telephone at (202) 395-7856. A copy of the comments should also be sent to the Federal Energy Regulatory Commission, Office of the Chief Information Officer, CI-1, Attention: Michael Miller, 888 First Street NE., Washington, DC 20426. Comments may be filed either in paper format or electronically. Those persons filing electronically do not need to make a paper filing. For paper filings, such comments should be submitted to the Office of the Secretary, Federal Energy Regulatory Commission, 888 First Street, NE. Washington, DC 20426 and should refer to Docket No. IC02-510-001.

Documents filed electronically via the Internet must be prepared in WordPerfect, MS Word, Portable Document Format, or ASCII format. To file the document, access the Commission's Web site at www.ferc.gov and click on “Make an E-filing,” and then follow the instructions for each screen. First time users will have to establish a user name and password. The Commission will send an automatic acknowledgment to the sender's E-mail address upon receipt of comments. User assistance for electronic filings is available at (202) 208-0258 or by e-mail to efiling@ferc.fed.us. Comments should not be submitted to the e-mail address.

All comments may be viewed, printed or downloaded remotely via the Internet through FERC's Home page using the FERRIS link. User assistance for FERRIS is available at (202) 502-8222, or by e-mail to contentmaster@ferc.fed.us.

FOR FURTHER INFORMATION CONTACT: Michael Miller may be reached by telephone at (202)502-8415, by fax at (202)208-2425, and by e-mail at michael.miller@ferc.gov.

SUPPLEMENTARY INFORMATION:

Description

The information collected submitted for OMB review contains:1. Collection of Information: FERC-600 “Rules of Practice and Procedure: Complaint Procedures”.2. Sponsor: Federal Energy Regulatory Commission.3. Control No.: 1902-0180.

The Commission is now requesting that OMB approve a three-year extension of the current expiration date, with no changes to the existing collection. There is an adjustment only to the reporting burden. The information filed with the Commission is voluntary but submitted with prescribed information. Requests for confidential treatment of the information are provided for under Section 388.112 of the Commission's regulations.4. Necessity of the Collection of Information: Submission of the information is necessary to enable the Commission to carry out its responsibilities in implementing the statutory provisions of the Federal Power Act (FPA.), 16 U.S.C. 791a-825r; the Natural Gas Act (NGA), 15 U.S.C. 717-717w; the Natural Gas Policy Act(NGPA); 15 U.S.C. 3301-3432; the Public Utility Regulatory Policies Act of 1978 (PURPA), 16 U.S.C. 2601-2645; the Interstate Commerce Act, 49 U.S.C. App. § 1 et seq. and the Outer Continental Shelf Lands Act, 43 U.S.C. 1301-1356.9.

In Order No. 602, 64 FR 17087 (April 8, 1999), the Commission revised its regulations governing complaints filed with the Commission under the above statutes. Order No. 602 was designed to encourage and support consensual resolution of complaints, and to organize the complaint procedures so that all complaints are handled in a timely and fair manner. In order to achieve the latter, the Commission revised Rule 206 of its Rules of Practice and Procedure (18 CFR 385.206) to require that a complaint satisfy certain informational requirements, that answers be filed in a shorter, 20-day time frame, and that parties may employ various types of alternative dispute resolution procedures to resolve complaints.

With respect to public utilities, Section 205(e) of the FPA provides: Whenever any such new schedule is filed, the Commission shall have the authority, either upon complaint or upon its own initiative without complaint at once, and, if it so orders, without answer or formal pleading by the public utility, but upon reasonable notice to enter upon hearing concerning the lawfulness of such rate, charge, classification, or service; and pending such hearing and the decision of the Commission * * *

For the natural gas industry, Section 14(a) of the NGA provides: The Commission may permit any person to file with it a statement in writing, under oath or otherwise, as it shall determine, as to any or all facts and circumstances concerning a matter which may be the subject of an investigation.

Concerning hydroelectric projects, Section 19 of the FPA provides: * * * it is agreed as a condition of such license that jurisdiction is hereby conferred upon the Commission, upon complaint of any person aggrieved or upon its own initiative, to exercise such regulation and control until such time as the State shall have provided a commission or other authority for such regulation and control * * *

For qualifying facilities, Section 210(h)(2)(B) of PURPA provides: Any electric utility, qualifying cogenerator, or qualifying small power producer may petition the Commission to enforce the requirements of subsection (f) as provided in subparagraph (A) of this paragraph.

Likewise for oil pipelines, Part 1 of the Interstate Commerce Act (ICA), Sections 1, 6 and 15 (recodified by P.L. 95-473 and found as an appendix to Title 49 U.S.C.) authorize the Commission to investigate the rates charged by oil pipeline companies subject to its jurisdiction. If a proposed oil rate has been filed and allowed by the Commission to go into effect without suspension and hearing, the Commission can investigate the effective rate on its own motion or by complaint filed with the Commission. Section 13 of the ICA provides that: Any person, firm, corporation, company or association, or any mercantile, agricultural, or manufacturing society or other organization, or any common carrier complaining of anything done or omitted to be done by any common carrier subject to the provisions of this chapter in contravention of the provisions thereof, may apply to the Commission by petition, which shall briefly state the facts; whereupon a statement of the complaint thus made shall be forwarded by the Commission to such common carrier, who shall be called upon to satisfy the complaint, or to answer the same in writing, within a reasonable time, to be specified by the Commission * * *

The Commission implements these filing requirements in the Code of Federal Regulations (CFR) under 18 CFR Sections 385.206 and 385.213.5. Respondent Description: The respondent universe currently comprises 8 companies (on average) subject to the Commission's jurisdiction.6. Estimated Burden: 1,064 total hours, 76 respondents(average), 1 response per respondent, 14 hours per response (average).7. Estimated Cost Burden to respondents: 1,064 hours / 2080 hours per years x $117,041 per year = $59,870. The cost per respondent is equal to $787.00.

Statutory Authority: Sections 19 and 205(e) of the Federal Power Act, 16 U.S.C. 797(e), 799; Section 14(a) of the Natural Gas Act; Section 210(h)(2)(B) of the Public Utility Regulatory Policies Act; Part 1 of the Interstate Commerce Act (recodified by Pub. L. 95-473 and found as an appendix to Title 49 U.S.C. and 43 U.S.C. 1301-1356.9.

Magalie R. Salas,
Secretary.

[FR Doc. 02-26805 Filed 10-21-02; 8:45 am]

BILLING CODE 6717-01-P